DEPARTMENT OF DEFENSE

Department of the Navy

[Docket ID: USN-2008-0044]

Privacy Act of 1974; System of Records

AGENCY: Department of the Navy, DoD.

ACTION: Notice to Delete a System of Records.

SUMMARY: The Department of Navy is deleting a system of records notice from its existing inventory of records systems subject to the Privacy Act of 1974, (5 U.S.C. 552a), as amended.

DATES: This proposed action will be effective without further notice on June 18, 2008 unless comments are received which result in a contrary determination.

ADDRESSES: Send comments to the Department of Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of Navy systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: May 5, 2008.
Patricia L. Toppings,
OSD Federal Register Liaison Officer, Department of Defense.

N04066-2

SYSTEM NAME:

Commercial Fidelity Bond Insurance Claims (March 30, 2006, 71 FR 16130).

REASON:

Program discontinued. All responsive records now fall under N04066-7, NEXCOM Employee Benefit Records.

[FR Doc. E8-11158 Filed 5-16-08; 8:45 am]

BILLING CODE 5001-06-P